DEPARTMENT OF ENERGY

Federal Energy Regulatory Commission

[Docket No. PF07-14-000]

CenterPoint Energy Gas Transmission; Notice of Intent To Prepare an Environmental Assessment for the Proposed Tontitown Project and Request for Comments on Environmental Issues

September 26, 2007.

The staff of the Federal Energy Regulatory Commission (FERC or Commission) will prepare an environmental assessment (EA) that will discuss the environmental impacts of constructing and operating the CenterPoint Energy Gas Transmission Company's (CenterPoint) proposed Tontitown Project (Project).

This notice announces the opening of the scoping process ¹ public comment period we will use to gather input from the public and interested agencies about the proposed Project. Your input will help the Commission staff determine which issues need to be evaluated in the EA. Please note that the scoping period will close on October 27, 2007.

¹ The National Environmental Policy Act requires the Commission to undertake a process to identify and address concerns the public may have about a proposed project. This process is commonly referred to as the “scoping process”.

This notice is being sent to affected landowners; Federal, State, and local government representatives and agencies; environmental and public interest groups; Native American tribes; other interested parties in this proceeding; and local libraries and newspapers. We encourage government representatives to notify their constituents of this proposed Project and encourage them to comment on their areas of concern.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the Commission entitled “An Interstate Natural Gas Facility on My Land? What Do I Need to Know?” addresses a number of typically asked questions, including the use of eminent domain and how to participate in the Commission's proceedings. It is available for viewing on the FERC Internet Website (http://www.ferc.gov).

Summary of the Proposed Project

CenterPoint proposes to modify its existing interstate natural gas transmission system. Specifically, CenterPoint proposes to construct and operate approximately 16.0 miles of 24-inch-diameter natural gas pipeline (OM-1-A pipeline) and ancillary facilities adjacent to an existing interstate natural gas pipeline in Logan and Franklin Counties, Arkansas. CenterPoint also proposes to construct and operate a 10,310-horsepower gas turbine-driven compressor station (Poteau Compressor Station) along existing natural gas pipelines in Le Flore County, Oklahoma.

Map depicting the proposed facilities are provided in Appendix 1.²

² The appendices referenced to in this notice will not be printed in the Federal Register. Copies of these appendices are available on the Commission's Web site (excluding maps) at http://www.ferc.gov or from the Commission's Public Reference Room—(202) 502-8371.

Land Requirements for Construction

Construction and operation of the proposed pipeline would require the use of temporary and permanent rights-of-way. CenterPoint has indicated that it would utilize existing right-of-way easements adjacent to the proposed pipeline to the extent practicable. Construction and operation of the proposed compressor station would require the temporary and permanent use of up to 12.0 acres of land.

The Environmental Review and Assessment Processes

The Commission's staff has initiated a pre-filing environmental review of CenterPoint's proposed project. The purpose of the pre-filing environmental review is to identify and resolve potential environmental issues prior to the submission of an application for a Certificate of Public Convenience and Necessity (Certificate) by CenterPoint. During a pre-filing environmental review, the public is encouraged to comment on environmental issues related to the proposed Project. Upon completion of staff's pre-filing environmental review, CenterPoint has indicated that it would file an application for a Certificate. Based upon the pre-filing environmental review and CenterPoint's application, staff will prepare an EA as required by the National Environmental Policy Act (NEPA) which requires the Commission to consider the environmental impacts of a proposed project whenever it considers the issuance of a Certificate.

The Commission's staff will prepare an EA that will discuss the potential environmental impacts resulting from the proposed Project under the following general headings:

• Geology and Soils.

• Water Resources and Wetlands.

• Fisheries, Vegetation and Wildlife.

• Threatened and Endangered Species.

• Air Quality and Noise.

• Land Use.

• Cultural Resources.

• Pipeline Safety and Reliability.

The Commission's staff will also evaluate possible alternatives to the proposed Project including system and route alternatives and make recommendations on how to lessen or avoid potential impacts to affected environmental resources.

As noted previously, the NEPA also requires the Commission to undertake a process to identify and address concerns the public may have about a proposed project. This process is commonly referred to as the “scoping process”. The main goal of the “scoping process” is to identify public concerns so that they can be considered in the Commission's environmental review. Therefore, to satisfy NEPA requirements, the Commission requests comments on environmental issues that should be considered in its environmental review and assessment. To ensure your comments are considered, please carefully follow the instructions in the public participation section of this notice.

Upon completion of the staff's environmental review and depending on the issues identified and/or comments received during the “scoping” process, the EA may be published and mailed to Federal, State and local government agencies; elected officials; environmental and public interest groups; affected landowners; other interested parties; local libraries and newspapers; and the Commission's official service list for this proceeding. A 30-day comment period would be allotted for review of the EA if it is published. Staff would consider all comments submitted concerning the EA before making their recommendations to the Commission.

Federal, state, or local agencies wishing to participate in staff's environmental review and the subsequent development of an EA may request “cooperating agency” status. Cooperating agencies are encouraged to participate in the scoping process and provide staff with written comments concerning the proposed Project. Agencies wanting to participate as a cooperating agency should send a letter as indicated in the public participation section of this notice describing the extent to which they would like to be involved.

Currently Identified Environmental Issues

The Commission's staff has already identified numerous environmental issues it thinks deserves consideration based on its review of preliminary information submitted by CenterPoint. These issues include potential impacts to:

• Land use.

• Residences.

• Federally-listed threatened and endangered species.

• Cultural resources; and

• Air and noise quality.

Public Participation

You can make a difference by providing us with your specific comments or concerns about the proposed Project. By becoming a commentor, your comments and concerns will be considered in the environmental review, addressed in the EA and considered by the Commission. Generally, comments are submitted regarding potential environmental effects, reasonable alternatives, and measures to avoid or lessen environmental impact. The more specific your comments, the more useful they will be. To ensure that your comments are properly recorded, please mail them to our office on or before October 27, 2007. When filing comments please:

• Send an original and two copies of your letter to: Kimberly D. Bose, Secretary, Federal Energy Regulatory Commission, 888 First St., NE., Room 1A, Washington, DC 20426;

• Label one copy of your comments to the attention of Gas Branch 2, DG2E; and reference Pre-Filing Docket No. PF07-14-000 on the original and both copies.

Please note that the Commission encourages the electronic filing of comments. To file electronic comments online please see the instructions ³ on the Commission's Web site at http://www.ferc.gov. Please note before you can file electronic comments with the Commission you will need to create a free online account.

³ 18 Code of Federal Regulations 385.2001(a)(1)(iii).

Once CenterPoint files an application for a Certificate with the Commission, a stakeholder may choose to become an official party to the proceeding known as an “intervenor.” Intervenors are allotted a more formal role in the process and are able to file briefs, appear at hearings, and be heard by the courts if they choose to appeal the Commission's final ruling. Instructions for becoming an intervenor are available on the Commission's Web site. Please note that requests to intervene will not be accepted until an application for a Certificate is filed with the Commission.

Environmental Mailing List

An effort has been made to send this notice to all individuals, organizations, and government entities that might be interested in and/or potentially affected by the proposed Project. This includes all landowners who are potential right-of-way grantors, landowners whose property may be used temporarily for project purposes, and landowners with homes within distances defined in the Commission's regulations of certain aboveground facilities.

If you would like to remain on the environmental mailing list for this proposed Project, please return the Mailing List Retention Form found in Appendix 2. If you do not comment on this proposed Project or return this form, you will be removed from the Commission's environmental mailing list.

Availability of Additional Information

Additional information about the proposed Project is available from the Commission's Office of External Affairs at 1-866-208 FERC (3372) or through the Commission's “eLibrary” which can be found online at http://www.ferc.gov. For assistance with the Commission's “eLibrary”, contact the helpline at 1-866-208-3676, TTY (202) 502-8659, or at FERCOnlineSupport@ferc.gov.

Additionally, the FERC now offers a free service called eSubscription that allows stakeholders to keep track of all formal issuances and submittals in specific dockets. This can reduce the amount of time stakeholders spend researching proceedings by automatically providing them with notification of filings, document summaries, and direct links to the documents. To register for this service, go to http://www.ferc.gov/esubscribenow.htm.

If applicable, public meetings or site visits associated with this proposed Project will be posted on the Commission's calendar which can be found online at http://www.ferc.gov/EventCalendar/EventsList.aspx.

Kimberly D. Bose,
Secretary.

[FR Doc. E7-19775 Filed 10-5-07; 8:45 am]

BILLING CODE 6717-01-P